DEPARTMENT OF JUSTICE

Agency Information Collection Activities; Proposed eCollection eComments Requested; New; Correction

AGENCY: Civil Division, Department of Justice.

ACTION: Notice; correction.

SUMMARY: The Department of Justice, Civil Division, published a document in the Federal Register of February 23, 2018, concerning request for comments on an information collection request to the Office of Management and Budget (OMB) for review and approval in accordance with the Paperwork Reduction Act of 1995. The document contained the incorrect information listed in the “Primary” section.

FOR FURTHER INFORMATION CONTACT: Talitha Guinn-Shaver, 950 Pennsylvania Ave. NW, Washington, DC 20005, Attn: Civil Communications Office (Attn: Elder Justice Initiative) (Phone: 202-598-0292).

Correction

In the Federal Register of February 23, 2018, in FR Doc. 2018-03720, on page 8108, in the first column, correct the “Primary” caption to read: 4. Affected public who will be asked or required to respond, as well as a brief abstract: Professionals working on elder abuse and elder justice issues.

DATES: Submit comments on the two specifications on or before April 24, 2018.

Dated: February 26, 2018.
Melody Braswell,
Department Clearance Officer.

[FR Doc. 2018-04187 Filed 2-28-18; 8:45 am]

BILLING CODE 4410-12-P